DEPARTMENT OF ENERGY

Federal Energy Regulatory Commission

[Docket No. RP00-490-002]

Transwestern Pipeline Company; Notice of Compliance Filing

November 14, 2002.

Take notice that on November 12, 2002, Transwestern Pipeline Company (Transwestern) tendered for filing as part of its FERC Gas Tariff, Second Revised Volume No. 1), the following tariff sheets to become effective January 1, 2003:

Fourth Revised No. 9A

Tenth Revised Sheet No. 20

Second Revised No. 20D

Fourth Revised Sheet No. 27

Twenty-Third Revised Sheet No. 37

Third Revised Sheet No. 37A

Eleventh Revised Sheet No. 38

Original Sheet No. 38A

Sixth Revised Sheet Nos. 39-40

Twenty-first Revised Sheet No. 48

Ninth Revised Sheet No. 51B

Seventh Revised No. 70

Eighth Revised Sheet No. 80B

Second Revised Sheet No. 81D

Fifth Revised Sheet No. 92C

Fifth Revised Sheet No. 92D

Third Revised Sheet No. 92E

Fourth Revised Sheet No. 92F

Eighth Revised Sheet No. 95B.01

Eighth Revised No. 95L

First Revised Sheet No. 98

First Revised Sheet No. 99

Ninth Revised Sheet No. 147

Third Revised Sheet No. 148

Fourth Revised Sheet No. 149

First Revised Sheet No. 151

First Revised Sheet No. 154

First Revised Sheet No. 155

Original Sheet No. 157

Original Sheet No. 158

Original Sheet No. 159

Original Sheet No. 160

Original Sheet No. 161

Original Sheet No. 162

Transwestern states that these tariff revisions are being filed in compliance with the Commission's October 10, 2002 Order in the instant docket.

Any person desiring to protest said filing should file a protest with the Federal Energy Regulatory Commission, 888 First Street, NE., Washington, DC 20426, in accordance with Section 385.211 of the Commission's Rules and Regulations. All such protests must be filed in accordance with section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Linwood A. Watson, Jr.,
Deputy Secretary.

[FR Doc. 02-29420 Filed 11-19-02; 8:45 am]

BILLING CODE 6717-01-P